DEPARTMENT OF HEALTH AND HUMAN SERVICES

Health Resources and Services Administration

Agency Information Collection Activities: Proposed Collection; Comment Request

In compliance with the requirements of Section 3506(c)(2)(A) of Public Law 104-13, the Paperwork Reduction Act of 1995, the Health Resources and Services Administration publishes summaries of proposed data collection projects for public comment. Comments are invited regarding the following: (a) The necessity of the proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: Teaching Health Center Graduate Medical Education (GME) Program—NEW

The Teaching Health Center Graduate Medical Education (GME) program (Section 340H of the Public Health Service Act) was established by Section 5508 of Public Law 111-148, the Patient Protection and Affordable Care Act. The program supports training for primary care residents (including residents in family medicine, internal medicine, pediatrics, internal medicine-pediatrics, obstetrics and gynecology, psychiatry, general dentistry, pediatric dentistry, and geriatrics) in community-based ambulatory patient care settings.

The statute provides that eligible Teaching Health Centers receive payments for both direct and indirect costs associated with training residents in community-based ambulatory patient care centers. Direct payments are designed to compensate eligible Teaching Health Centers for those expenses directly associated with resident training, while indirect payments are intended to compensate for the additional costs of training residents in such programs. Payments are made at the beginning of the funding cycle; however, the statute provides for a reconciliation process, through which overpayments may be recouped and underpayments may be adjusted at the end of the fiscal year. This data collection instrument will gather information relating to the numbers of residents in Teaching Health Center GME training programs in order to reconcile payments for both direct and indirect costs.

The annual estimate of burden is as follows:

Form | Number of respondents | Responses per respondent | Total responses | Hours per response | Total burden hours
Reconciliation form | 11 | 1 | 11 | 10 | 110
Total | 11 |  | 11 | 10 | 110

To request more information on this proposed project or to obtain a copy of the draft data collection plans and instruments, e-mail paperwork@hrsa.gov or call the HRSA Reports Clearance Officer at (301) 443-1129.

E-mail comments to paperwork@hrsa.gov or mail the HRSA Reports Clearance Officer, Room 10-33, Parklawn Building, 5600 Fishers Lane, Rockville, MD 20857. Written comments should be received within 60 days of this notice.

Dated: March 23, 2011.
Reva Harris,
Acting Director, Division of Policy and Information Coordination.

[FR Doc. 2011-7317 Filed 3-28-11; 8:45 am]

BILLING CODE 4165-15-P